DEPARTMENT OF LABOR

Office of the Secretary

Submission for OMB Review; Comment Request

March 30, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by contacting the Department of Labor. To obtain documentation contact Darrin King at (202) 693-4129 or E-Mail King-Darrin@dol.gov.

Comment should be sent to Office of Information and Regulatory Affairs, Attn: OMB Desk Officer for ETA, Office of Management and Budget, Room 10235, Washington, DC 20503 ((202) 395-7316), within 60 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Employment and Training Administration (ETA).

Title: State Alien Labor Certification Activity Report.

OMB Number: 1205-0319.

Affected Public: State, Local, or Tribal Government.

Frequency: Semi-annually.

Number of Respondents: 54.

Number of Annual Responses: 108.

Estimated Time Per Response: 2 hours.

Total Burden Hours: 216.

Total Annualized Capital/Startup Costs: $0.

Total Annual Costs (operating/maintaining systems or purchasing services): $0.

Description: The information collected on the Form ETA-9037 is authorized by 20 CFR parts 655 and 656 and is used to collect information from States on the activities they perform under the Alien Certification Reimbursable Grant.

Type of Review: Revision of a currently approved collection.

Agency: Employment and Training Administration (ETA).

Title: Forms for Agricultural Recruitment System of Services to Migratory Workers and Their Employers; Application for Alien Employment Certification.

OMB Number: 1205-0134.

Affected Public: State, Local, or Tribal Government; Individuals and households.

Form No. | Frequency | Number of respondents | Annual responses | Average time per response (in hours) | Estimated annual burden hours
ETA-790 | On occasion | 52 | 2,000 | 1.00 | 2,000
ETA-795 | On occasion | 52 | 3,000 | .50 | 1,500
Total |  |  | 5,000 | .75 | 3,500

Total Annualized Capital/Startup Costs: $0.

Total Annual Costs (operating/maintaining systems or purchasing services): $0.

Description: The Forms ETA-790 and ETA-795 are used in servicing agricultural employers to ensure their labor needs for domestic migratory agricultural workers are met; in helping domestic agricultural workers locate jobs expeditiously and ensure exposure of employment opportunities to domestic agricultural workers before cortication for employment foreign workers. Due to lack of use, the Department recommends eliminating the previously approved Forms ETA-785 and ETA-785A.

Ira L. Mills,
Departmental Clearance Officer.

[FR Doc. 01-8520 Filed 4-5-01; 8:45 am]

BILLING CODE 4510-30-M